FEDERAL COMMUNICATIONS COMMISSION

47 CFR Parts 80 and 95

[PR Docket No. 92-257; RM-9664; FCC 00-370]

Maritime Communications

AGENCY: Federal Communications Commission.

ACTION: Final rules.

SUMMARY: In this document, the Commission amends its rules to promote operational, technical, and regulatory flexibility for Automated Maritime Telecommunications System (AMTS) and high seas public coast stations. These final rules will eliminate the application and engineering study requirements and modify the broadcaster notification requirement for new AMTS stations that qualify as fill-in stations, extend the construction requirement for new AMTS systems from eight months to two years, provide AMTS licensees with much-needed technical flexibility, extend the high seas public coast construction requirement to twelve months, and eliminate the HF channel loading requirement for high seas public coast stations. The Commission believes that this action will increase competition in the provision of telecommunications services, promote more efficient use of maritime spectrum, increase the types of telecommunications services available to vessel operators, allow maritime commercial mobile radio service (CMRS) providers to respond more quickly to market demand, and reduce regulatory burdens on AMTS and high seas public coast station licensees.

DATES: Effective January 12, 2001.

FOR FURTHER INFORMATION CONTACT: Keith Fickner, Policy and Rules Branch, Public Safety and Private Wireless Division, Wireless Telecommunications Bureau at (202) 418-7308.

SUPPLEMENTARY INFORMATION: 1. The Commission's Fourth Report and Order (4th R&O) PR Docket No. 92-257, FCC 00-370, was adopted October 13, 2000, and released on November 16, 2000. The full text of this Commission's 4th R&O is available for inspection and copying during normal business hours in the FCC Reference Center, Room CY-A257, 445 12th Street, SW., Washington, DC. The complete text may be purchased from the Commission's copy contractor, International Transcription Service, Inc., 1231 20th Street, NW., Washington, DC 20037. The full text may also be downloaded at: http://www.fcc.gov/Wireless/Orders/2000/fcc00370.txt. Alternative formats are available to persons with disabilities by contacting Martha Contee at (202) 418-0260 or TTY (202) 418-2555.

Summary of the 4th R&O

2. The Commission amends its rules to eliminate the application and engineering study requirements and to modify the broadcaster notification requirement for new AMTS stations whose predicted interference contours do not encompass any land area beyond the composite interference contour of the applicant's existing system. This is consistent with the Commission's treatment of certain other CMRS licensees (i.e., paging and radiotelephone service licensees, and SMR system licensees in the 800 MHz band).

3. The Commission concludes that the construction requirement for new AMTS systems and system extensions should be extended from eight months to two years because the Wireless Telecommunications Bureau's licensing experience has shown that licensees generally have found eight months to be insufficient time in which to construct a system of coast stations. It believes that the one-year period that it has adopted for other site-based CMRS services would be insufficient in most AMTS cases.

4. The Commission amends its rules to eliminate the modulation and channelization requirements for AMTS coast stations, so long as transmissions do not exceed the adjacent channel emission limitations of each station's authorization. It concludes that modulation and channelization requirements are unnecessary with respect to AMTS because AMTS frequencies are assigned in channel blocks. AMTS transmitters will now be allowed to use any modulation or channelization scheme so long as emissions are attenuated at the band edges of each station's assigned frequency group(s) in accordance with § 80.211 of the Commission's Rules.

5. The Commission concludes that AMTS licensees should have the authority to provide fixed or hybrid CMRS services on a co-primary basis with mobile services. It believes that this operational flexibility will enhance AMTS licensees ability to meet customer requirements and demand, and promote regulatory parity among maritime CMRS providers and between maritime CMRS providers and other CMRS providers.

6. The Commission amends its rules to eliminate channel loading requirements for high seas public coast stations, including the limits that were placed on the number of frequencies that could be obtained in an initial or subsequent application, because it concludes that the imposition of such requirements could unfairly impair AMTS providers ability to compete with other maritime CMRS providers.

7. Finally, the Commission extends the existing construction requirement from eight months to twelve months for high seas public coast stations because a twelve-month construction period is consistent with the construction periods that have been adopted for other site-based CMRS licensees. The Commission believes that employing long-term construction requirements based on population or geographic service areas, in this case, is inappropriate.

Final Regulatory Flexibility Analysis

8. As required by the Regulatory Flexibility Act (RFA), an Initial Regulatory Flexibility Analysis (IRFA) was incorporated into the Second Further Notice of Proposed Rule Making (2nd FNPRM) in this proceeding. The Commission sought written public comment on the IRFA. The present Final Regulatory Flexibility Analysis (FRFA) conforms to the RFA.

A. Need for, and Objectives of, the 4th R&O

9. Our objective is to promote operational, technical, and regulatory flexibility for Automated Maritime Telecommunications System (AMTS) and high seas public coast stations. Specifically, this action will: (1) Provide additional flexibility for AMTS coast stations by permitting the construction and operation of fill-in stations without prior Commission authorization, eliminating the current emission restrictions and channel plan, and increasing the permitted power levels for point-to-point communications, and (2) eliminate the required showing of channel loading and extend the construction period for high seas public coast stations. We find that these actions will allow maritime CMRS providers to better respond to market demand, increase competition in the provision of telecommunications services, promote more efficient use of marine spectrum, increase the types of telecommunications services available to vessel operators, and reduce regulatory burdens on coast station licensees. Thus, we conclude that the public interest is served by amending our rules as described above.

B. Summary of Significant Issues Raised by Public Comments in Response to the IRFA

10. No comments were submitted in response to the IRFA. In general comments on the 2nd FNPRM, however, some small business commenters (i.e., Paging Systems, Inc., RegioNet Wireless LLC, Waterway Communications System LLC) raised issues that might affect small business entities. In particular, some small business commenters argued that the construction period for AMTS and high seas public coast stations should be extended from eight months to two years, and that AMTS licensees should be permitted to construct fill-in stations without prior Commission approval. The Commission carefully considered each of these comments in reaching the decision set forth herein.

C. Description and Estimate of the Number of Small Entities to Which Rules Will Apply

11. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). A small organization is generally “any not-for-profit enterprise which is independently owned and operated and is not dominant in its field.”

12. The rules adopted herein will affect licensees using AMTS and high seas public coast spectrum. In the Third Report and Order in this proceeding, the Commission defined the term “small entity” specifically applicable to public coast station licensees as any entity employing fewer than 1,500 persons, based on the definition under the Small Business Administration rules applicable to radiotelephone service providers. Since the size data provided by the Small Business Administration does not enable us to make a meaningful estimate of the number of AMTS and high seas public coast station licensees that are small businesses, and no commenters responded to our request for information regarding the number of small entities that use or are likely to use public coast spectrum, we have used the 1992 Census of Transportation, Communications, and Utilities, conducted by the Bureau of the Census, which is the most recent information available. This document shows that only 12 radiotelephone firms out of a total of 1,178 such firms which operated in 1992 had 1,000 or more employees. There are three AMTS public coast station licensees and approximately thirteen high seas public coast station licensees. Based on the rules adopted herein, it is unlikely that more than seven licensees will be authorized in the future. Therefore, for purposes of our evaluations and conclusions in this FRFA, we estimate that there are approximately twenty-five AMTS and high seas public coast station licensees that are small businesses, as that term is defined by the Small Business Administration.

D. Description of Projected Reporting, Recordkeeping, and Other Compliance Requirements

13. In order to permit AMTS licensees to construct fill-in stations without notifying the Commission, while still enabling amateur radio licensees to abide by the exclusion and notification distances in our rules, we are requiring AMTS licensees to notify two organizations that represent amateur licensees of the location of their fill-in stations. The estimated time for preparing these letters is twenty minutes per fill-in station. This is the same time requirement for both large and small entities, however, it is such a nominal requirement that it should not be a burden to any entity.

E. Steps Taken to Minimize Significant Economic Impact on Small Entities, and Significant Alternatives Considered

14. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

15. The Commission in this proceeding has considered comments on implementing broad changes to the maritime service rules. It has adopted alternatives which minimize burdens placed on small entities. First, it has decided to permit AMTS licensees to construct fill-in stations without notifying the Commission, avoiding the need to file an application. Also, it has extended the eight-month construction requirement to two years for all AMTS stations and one year for all high seas public coast stations. In addition, the Commission has eliminated the requirement that applicants for HF high seas frequencies show that their current channels are fully loaded before they may obtain additional channels.

16. The Commission considered and rejected several significant alternatives. It rejected the National Association of Broadcasters and Association for Maximum Service Television's alternative of moving the rules governing the Low Power Radio Service from Part 95 to Part 80 of its rules. This was rejected because it could have caused confusion among licensees. Instead, the Commission will leave the LPRS rules in place. The Commission also rejected the alternative of basing the construction requirement for high seas public coast stations on the population of the station's service area as it has for other services, such as AMTS. This would have required licensees to acquire and act upon additional data. Instead, the Commission used a time-based construction requirement because it will ensure rapid delivery of service to the public.

Report to Congress

The Commission will send a copy of the 4th R&O, including this FRFA, in a report to be sent to Congress pursuant to the SBREFA, see 5 U.S.C. 801(a)(1)(A). In addition, the Commission will send a copy of the 4th R&O, including this FRFA, to the Chief Counsel for Advocacy of the Small Business Administration. In addition, the 4th R&O and FRFA (or summaries thereof) will be published in the Federal Register. See 5 U.S.C. 604(b).

List of Subjects 47 CFR Parts 80 and 95

Communications equipment, Radio.

Federal Communications Commission.
Magalie Roman Salas,
Secretary.

Final Rules

For the reasons discussed in the preamble, the Federal Communications Commission amends 47 CFR Parts 80 and 95 as follows:

PART 80—STATIONS IN THE MARITIME SERVICES

1. The authority citation for Part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

2. Section 80.25 is amended by revising paragraph (b) to read as follows:

§ 80.25 License term.

* * * * *

(b) Licenses other than ship stations in the maritime services will normally be issued for a term of ten years from the date of original issuance, major modification, or renewal.

* * * * *

3. Section 80.49 is amended by revising paragraph (a)(2) and adding a new paragraph (a)(3) to read as follows:

§ 80.49 Construction and regional service requirements.

(a) * * *

(2) For LF, MF, and HF band public coast station licensees, when a new license has been issued or additional operating frequencies have been authorized, if the station or frequencies authorized have not been placed in operation within twelve months from the date of grant, the authorization becomes invalid and must be returned to the Commission for cancellation.

(3) For AMTS band public coast station licensees, when a new license has been issued or additional operating frequencies have been authorized, if the station or frequencies authorized have not been placed in operation within two years from the date of grant, the authorization becomes invalid and must be returned to the Commission for cancellation.

* * * * *

4. Section 80.105 is revised to read as follows:

§ 80.105 General obligations of coast stations.

Each coast station or marine-utility station must acknowledge and receive all calls directed to it by ship or aircraft stations. Such stations are permitted to transmit safety communication to any ship or aircraft station. VHF (156-162 MHz) and AMTS (216-220 MHz) public coast stations may provide fixed or hybrid services on a co-primary basis with mobile operations.

5. Section 80.213 is amended by revising paragraphs (a)(2) and (d) to read as follows:

§ 80.213 Modulation requirements.

(a) * * *

(2) When phase or frequency modulation is used in the 156-162 MHz band the peak modulation must be maintained between 75 and 100 percent. A frequency deviation of ± 5 kHz is defined as 100 percent peak modulation; and

* * * * *

(d) Ship and coast station transmitters operating in the 156-162 MHz band must be capable of proper operation with a frequency deviation of ± 5 kHz when using any emission authorized by § 80.207 of this part.

* * * * *

6. Section 80.215 is amended by removing and reserving footnote 7, and revising the introductory test of paragraphs (h)(2), and (i) and revising paragraph (h)(5) to read as follows:

§ 80.215 Transmitter power.

* * * * *

(h) * * *

(2) Coast stations located less than 169 kilometers (105 miles) from a channel 13 TV station, or less than 129 kilometers (80 miles) from a channel 10 TV station, or when using a transmitting antenna height above ground greater than 61 meters (200 feet), must submit a plan to limit interference to TV reception, unless the station's predicted interference contour is fully encompassed by the composite interference contour of the system's existing stations, or the station's predicted interference contour extends the system's composite interference contour over water only (disregarding uninhabited islands). The plan must include:

* * * * *

(5) The transmitter power, as measured at the input terminals to the station antenna, must be 50 watts or less.

(i) A ship station must have a transmitter output not exceeding 25 watts and an ERP not exceeding 18 watts. The maximum transmitter output power is permitted to be increased to 50 watts under the following conditions:

* * * * *

7. Section 80.357 is amended by removing paragraphs (b)(2)(ii)(A) through (b)(2) (ii)(C) and revising paragraph (b)(2)(ii) to read as follows:

§ 80.357 Morse code working frequencies.

* * * * *

(b) * * *

(2) * * *

(ii) Frequencies above 5 MHz may be assigned primarily to stations serving the high seas and secondarily to stations serving inland waters of the United States, including the Great Lakes, under the condition that interference will not be caused to any coast station serving the high seas.

* * * * *

8. Section 80.371 is amended by removing paragraph (b)(3) and (b)(4), and revising paragraphs (b)(1) and (b)(2) to read as follows:

§ 80.371 Public correspondence frequencies.

* * * * *

(b) Working frequencies in the 4000-27500 kHz band. (1) The following table specifies the carrier frequencies available for assignment to public coast stations. The paired ship frequencies are available for use by authorized ship stations. The specific frequency assignment available to public coast stations for a particular geographic area is indicated by an “x” under the appropriate column. The allotment areas are in accordance with the “Standard Defined Areas” as identified in the International Radio Regulations, Appendix 25 Planning System, and indicated in the preface to the International Frequency List (IFL).

Working Carrier Frequency Pairs in the 4000-27500 kHz Band
Channel | Ship transmit | Coast transmit | USA-E | USA-W | USA-S | USA-C | VIR | HWA | ALS | PTR | GUM
401 | 4065 | 4357 | x | x | x | x |  |  |  |  |
403 | 4071 | 4363 | x | x | x | x |  | x |  | x |
404 | 4074 | 4366 | x | x |  | x |  |  | x |  |
405 | 4077 | 4369 | x | x | x | x |  | x | x |  |
409 | 4089 | 4381 | x | x | x | x |  |  |  |  |
410 | 4092 | 4384 | x |  |  |  |  |  |  |  | x
411 | 4095 | 4387 | x | x |  | x |  |  |  |  |
412 | 4098 | 4390 | x | x | x |  |  |  |  |  |
414 | 4104 | 4396 | x |  | x |  |  |  | x | x |
416 | 4110 | 4402 | x | x |  | x |  |  | x |  |
417 | 4113 | 4405 | x | x | x | x |  |  |  |  |
418 | 4116 | 4408 |  |  |  | x |  | x |  |  |
419 | 4119 | 4411 |  | x | x |  |  | x |  | x | x
422 | 4128 | 4420 | x | x |  |  |  |  | x |  |
423 | 4131 | 4423 | x | x | x | x |  |  | x |  |
424 | 4134 | 4426 |  |  |  | x |  |  |  |  |
427 | 4143 | 4435 | x | x | x | x | x | x | x |  |
428 | 4060 | 4351 |  |  | x |  |  |  |  |  |
604 | 6209 | 6510 | x | x | x | x |  | x | x | x | x
605 | 6212 | 6513 |  |  |  | x |  |  |  |  |
607 | 6218 | 6519 |  |  | x |  |  |  |  |  |
802 | 8198 | 8722 | x |  | x |  |  | x | x |  |
803 | 8201 | 8725 |  |  |  | x |  |  |  |  |
804 | 8204 | 8728 | x | x | x |  |  |  |  |  |
805 | 8207 | 8731 | x | x | x |  |  |  |  |  |
807 | 8213 | 8737 |  |  |  | x |  |  |  |  |
808 | 8216 | 8740 | x | x |  |  |  | x | x |  | x
809 | 8219 | 8743 | x | x |  |  |  |  |  |  |
810 | 8222 | 8746 | x | x | x |  |  |  |  |  |
811 | 8225 | 8749 | x | x | x |  |  |  |  |  |
814 | 8234 | 8758 | x | x | x | x |  | x | x |  |
815 | 8237 | 8761 | x | x | x |  |  |  |  |  |
817 | 8243 | 8767 |  |  |  | x |  |  |  |  |
819 | 8249 | 8773 |  |  |  | x |  |  |  |  |
822 | 8258 | 8782 | x | x | x |  |  |  |  |  |
824 | 8264 | 8788 | x | x | x |  |  |  |  |  |
825 | 8267 | 8791 | x | x | x |  |  |  |  |  |
826 | 8270 | 8794 | x |  |  | x |  |  |  |  | x
829 | 8279 | 8803 | x | x | x |  |  |  |  | x |
830 | 8282 | 8806 |  |  | x |  |  |  |  | x |
831 | 8285 | 8809 |  | x | x |  |  |  |  | x |
836 | 8113 | 8713 |  |  | x |  |  |  |  |  |
837 | 8128 | 8716 |  |  | x |  |  |  |  |  |
1201 | 12230 | 13077 | x | x | x |  |  |  |  |  |
1202 | 12233 | 13080 | x | x | x | x |  |  |  |  |
1203 | 12236 | 13083 | x | x | x | x |  | x | x |  |
1206 | 12245 | 13092 | x | x | x |  |  |  |  |  |
1208 | 12251 | 13098 | x |  | x |  |  |  |  |  |
1209 | 12254 | 13101 | x | x | x |  |  |  | x |  |
1210 | 12257 | 13104 | x | x | x |  |  |  |  |  | x
1211 | 12260 | 13107 | x | x | x | x |  |  | x |  |
1212 | 12263 | 13110 | x |  | x |  |  | x | x | x |
1215 | 12272 | 13119 |  | x | x |  |  |  |  | x |
1217 | 12278 | 13125 |  |  |  | x |  |  |  |  |
1222 | 12293 | 13140 |  |  |  |  |  | x |  |  |
1223 | 12296 | 13143 | x | x | x |  |  |  |  |  | x
1225 | 12302 | 13149 | x |  | x |  |  |  |  |  |
1226 | 12305 | 13152 | x | x | x |  |  |  |  |  |
1228 | 12311 | 13158 | x | x |  | x |  |  |  |  |
1229 | 12314 | 13161 |  | x |  |  |  |  |  |  |
1230 | 12317 | 13164 | x | x | x |  |  | x |  |  |
1233 | 12326 | 13173 |  |  | x |  |  |  |  |  |
1234 | 12329 | 13176 |  | x | x |  |  | x | x |  |
1235 | 12232 | 13179 |  |  | x |  |  |  |  |  |
1236 | 12335 | 13182 |  |  | x |  |  |  |  |  |
1237 | 12338 | 13185 | x |  | x | x | x |  |  |  |
1601 | 16360 | 17242 | x |  | x |  |  | x | x |  |
1602 | 16363 | 17245 | x | x | x |  |  |  |  |  |
1603 | 16366 | 17248 | x | x | x |  |  |  | x |  |
1605 | 16372 | 17254 | x | x |  |  |  |  |  |  |
1607 | 16378 | 17260 | x | x | x |  |  |  | x |  |
1609 | 16384 | 17266 | x | x | x |  |  |  |  |  |
1610 | 16387 | 17269 | x | x | x |  |  |  |  |  |
1611 | 16390 | 17272 | x | x | x |  |  |  |  |  |
1616 | 16405 | 17287 | x | x | x |  |  | x | x |  |
1620 | 16417 | 17299 | x |  |  | x |  |  |  |  |
1624 | 16429 | 17311 | x | x | x |  |  |  |  |  |
1626 | 16435 | 17317 | x |  |  |  |  |  |  |  |
1631 | 16450 | 17332 | x |  |  |  |  |  |  |  |
1632 | 16453 | 17335 | x | x | x |  |  |  | x |  |
1641 | 16480 | 17362 | x | x | x |  |  |  |  |  |
1642 | 16483 | 17365 | x | x | x | x | x | x | x | x |
1643 | 16486 | 17368 |  |  | x |  |  |  |  |  |
1644 | 16489 | 17371 | x | x | x | x |  | x | x |  |
1645 | 16492 | 17374 |  |  | x |  |  |  |  |  |
1646 | 16495 | 17377 |  | x |  |  |  |  |  |  |
1647 | 16498 | 17380 | x | x | x | x |  |  | x |  |
1648 | 16501 | 17383 |  | x |  | x | x | x | x | x |
1801 | 18780 | 19755 | x | x | x | x | x | x | x | x |
1802 | 18783 | 19758 | x |  | x | x | x |  |  | x |
1803 | 18786 | 19761 | x | x |  | x | x | x | x | x |
1804 | 18789 | 19764 |  | x | x |  |  | x | x |  |
1805 | 18792 | 19767 |  | x |  |  |  |  | x |  |
1807 | 18798 | 19773 |  |  | x |  |  |  |  |  |
1808 | 18801 | 19776 | x | x | x | x | x | x | x | x |
2201 | 22000 | 22696 | x | x | x |  |  |  |  |  | x
2205 | 22012 | 22708 | x | x | x |  |  |  |  |  |
2210 | 22027 | 22723 | x |  |  |  |  |  |  |  |
2214 | 22039 | 22735 | x | x | x |  |  |  |  |  |
2215 | 22042 | 22738 | x | x | x |  |  |  |  |  |
2216 | 22045 | 22741 | x |  | x |  |  |  |  |  | x
2222 | 22063 | 22759 | x |  |  |  |  |  |  |  |
2223 | 22066 | 22762 | x | x | x |  |  | x | x | x |
2227 | 22078 | 22774 | x | x | x |  |  |  |  |  |
2228 | 22081 | 22777 | x | x |  |  |  |  |  |  |
2231 | 22090 | 22786 | x | x | x |  |  |  | x |  |
2236 | 22105 | 22801 | x | x |  |  |  |  |  |  |
2237 | 22108 | 22804 | x | x | x |  |  |  |  |  |
2241 | 22120 | 22816 | x | x | x | x | x | x | x | x |
2242 | 22123 | 22819 |  |  | x |  |  |  |  |  |
2243 | 22126 | 22822 | x | x | x | x | x | x | x | x |
2244 | 22129 | 22825 |  | x |  |  |  | x | x |  |
2245 | 22132 | 22828 |  | x | x |  |  | x | x |  |
2246 | 22135 | 22831 |  |  | x |  |  |  |  |  |
2247 | 22138 | 22834 | x | x | x | x | x | x | x |  |
2501 | 25070 | 26145 | x | x | x | x |  | x | x |  |
2502 | 25073 | 26148 | x | x | x | x | x | x | x | x |
2503 | 25076 | 26151 |  |  | x |  |  |  |  |  |
2504 | 25079 | 26154 | x | x | x | x | x | x | x | x |

(2) The following table specifies the non-paired carrier frequencies that are available for assignment to public coast stations for simplex operations. These frequencies are available for use by authorized ship stations for transmissions to coast stations (simplex operations). Assignments on these frequencies must accept interference. They are shared with government users and are considered “common use” frequencies under the international Radio Regulations. They cannot be notified for inclusion in the Master International Frequency Register, which provides stations with interference protection, but may be listed in the international List of Coast Stations. (See Radio Regulation No. 1220 and Recommendation 304.)

Public Correspondence Simplex
[Non-paired radiotelephony frequencies in the 4000-27500 kHz Band ¹ Carrier Frequencies (kHz)]
16537 | 18825 | 22174 | 25100
16540 | 18828 | 22177 | 25103
| 18831 |  | 25106
| 18834 |  | 25109
| 18837 |  | 25112
¹ Coast stations limited to a maximum transmitter power of 1 kW (PEP).

* * * * *

§ 80.374 [Amended]

9. Section 80.374 is amended by removing paragraph (a) and redesignating paragraphs (b) and (c) as (a) and (b).

10. Section 80.475 is amended by redesignating paragraph (b) as paragraph (c), and revising paragraph (a)(1) and adding a new paragraph (b) to read as follows:

§ 80.475 Scope of service of the Automated Maritime Telecommunications System (AMTS).

(a) * * *

(1) Applicants proposing to locate a coast station transmitter within 169 kilometers (105 miles) of a channel 13 TV station or within 129 kilometers (80 miles) of a channel 10 TV station or with an antenna height greater than 61 meters (200 feet), must submit an engineering study clearly showing the means of avoiding interference with television reception within the grade B contour, see § 80.215(h) of this chapter, unless the proposed station's predicted interference contour is fully encompassed by the composite interference contour of the applicant's existing system, or the proposed station's predicted interference contour extends the system's composite interference contour over water only (disregarding uninhabited islands).

* * * * *

(b) Coast stations for which the above specified need not be submitted because the proposed station's predicted interference contour is fully encompassed by the composite interference contour of the applicant's existing system or the proposed station's predicted interference contour extends the system's composite interference contour over water only (disregarding uninhabited islands) must, at least 15 days before the station is put into operation, give written notice to the television stations which may be affected of the proposed station's technical characteristics, the date it will be put into operation, and the licensee's representative (name and phone number) to contact in the event a television station experiences interference. No prior FCC authorization is required to construct and operate such a station, but, at the time the station is added, the AMTS licensee must make a record of the technical and administrative information concerning the station and, upon request, supply such information to the FCC. In addition, when the station is added, the AMTS licensee must send notification of the station's location to the American Radio Relay League, Inc., 225 Main Street, Newington, CT 06111-1494, and Interactive Systems, Inc., Suite 1103, 1601 North Kent Street, Arlington, VA 22209.

* * * * *

11. Section 80.477 is amended by adding a new paragraph (d) to read as follows:

§ 80.477 AMTS points of communication.

* * * * *

(d) AMTS licensees may use AMTS coast and ship frequencies on a secondary basis for fixed service communications to support AMTS deployment in remote fixed locations at which other communications facilities are not available.

12. A new § 80.481 is added to read as follows:

§ 80.481 Alternative technical parameters for AMTS transmitters.

In lieu of the technical parameters set forth in this part, AMTS transmitters may utilize any modulation or channelization scheme so long as emissions are attenuated in accordance with § 80.211 at the band edges of each station's assigned channel group or groups.

PART 95—PERSONAL RADIO SERVICES

13. The authority citation for Part 95 continues to read as follows:

Authority: Secs. 4, 303, 48 Stat. 1066, 1082, as amended; 47 U.S.C. 154, 303.

14. Section 95.1013 is amended by revising paragraph (a) to read as follows:

§ 95.1013 Antennas.

(a) The maximum allowable ERP for a station in the LPRS other than an AMTS station is 100 mW. The maximum allowable ERP for an AMTS station in the LPRS is 1 W, so long as emissions are attenuated, in accordance with § 80.211 of this chapter, at the band edges.

* * * * *

[FR Doc. 00-31310 Filed 12-12-00; 8:45 am]

BILLING CODE 6712-01-U